DEPARTMENT OF ENERGY

Federal Energy Regulatory Commission

Sunshine Act Meeting

The following notice of meeting is published pursuant to section 3(a) of the government in the Sunshine Act (Pub. L. 94-409), 5 U.S.C. 552b:

Agency Holding Meeting: Federal Energy Regulatory Commission.

Date and Time: April 19, 2012 10 a.m.

Place: Room 2C, 888 First Street NE., Washington, DC 20426.

Status: Open.

Matters To Be Considered: Agenda

Note: Items listed on the agenda may be deleted without further notice.

Contact Person For More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

980th—Meeting; Regular Meeting
[April 19, 2012, 10 a.m.]
Item No. | Docket No. | Company
Administrative
A-1 | AD02-1-000 | Agency Business Matters.
A-2 | AD02-7-000 | Customer Matters, Reliability, Security and Market Operations.
A-3 | AD06-3-000 | Market Update.
Electric
E-1 | ER12-480-000 | Midwest Independent Transmission System Operator, Inc. and Transmission Owners of the Midwest Independent Transmission System Operator, Inc.
E-2 | ER09-1063-004 | PJM Interconnection, L.L.C.
E-3 | AD12-14-000 | Open Access and Priority Rights on Interconnection Facilities.
| AD11-11-000 | Priority Rights to New Participant—Funded Transmission.
E-4 | RM11-17-000 | Enhancement of Electricity Market Surveillance and Analysis through Ongoing Electronic Delivery of Data from Regional Transmission Organizations and Independent System Operators.
E-5 | RM05-5-020 | Standards for Business Practices and Communication Protocols for Public Utilities.
E-6 | RM11-11-000 | Version 4 Critical Infrastructure Protection Reliability Standards.
E-7 | RM12-1-000 | Transmission Planning Reliability Standards.
E-8 | RM11-18-000 | Transmission Planning Reliability Standards.
E-9 | RC08-5-001 | U.S. Department of Energy, Portsmouth/Paducah Project Office.
E-10 | RC11-5-000 | City of Holland, Michigan Board of Public Works.
E-11 | ER09-187-000 | Southern California Edison Company.
| ER09-187-001.
| ER10-160-000.
E-12 | ER12-1155-000 | ISO New England, Inc. and New England Power Pool.
E-13 | ER12-701-000 | New York Independent System Operator, Inc.
| ER12-701-001.
E-14 | Omitted.
E-15 | Omitted.
E-16 | Omitted.
E-17 | OA09-31-000 | Otter Tail Power Company.
E-18 | EL12-13-000 | PacifiCorp v. Utah Associated Municipal Power Systems.
Gas
G-1 | RP10-1410-001 | Kern River Gas Transmission Company.
| RP10-1410-002.
| RP10-1410-003.
G-2 | RP11-1566-003 | Tennessee Gas Pipeline Company, L.L.C.
| RP11-1566-004.
| RP11-1566-008.
| RP11-1566-009.
| RP11-1566-011.
| RP11-2066-001.
Hydro
H-1 | P-12632-004 | East Texas Electric Cooperative, Inc.
H-2 | P-2299-076 | Turlock Irrigation District and Modesto Irrigation District.
H-3 | P-2692-048 | Duke Energy Carolinas, LLC.
Certificates
C-1 | CP11-539-000 | ANR Pipeline Company.
C-2 | CP11-72-000 | Sabine Pass Liquefaction, LLC and Sabine Pass LNG, L.P.
C-3 | CP07-441-001 | Pacific Connector Gas Pipeline, LP
| CP07-442-001.
| CP07-443-001.
| CP07-444-001. | Jordan Cove Energy Project, L.P.
C-4 | Omitted.
C-5 | Omitted.
C-6 | CP11-128-001 | National Fuel Gas Supply Corporation.

Dated: April 12, 2012.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2012-9275 Filed 4-13-12; 11:15 am]

BILLING CODE 6717-01-P